DEPARTMENT OF COMMERCE

National Oceanic and Atmospheric Administration

RIN 0648-XE305

Mid-Atlantic Fishery Management Council (MAFMC); Public Meeting

AGENCY: National Marine Fisheries Service (NMFS), National Oceanic and Atmospheric Administration (NOAA), Commerce.

ACTION: Notice; public meeting.

SUMMARY: The Mid-Atlantic Fishery Management Council's (Council) River Herring and Shad (RH/S) Committee will hold a public meeting to review recent developments in RH/S conservation and to consider potential RH/S activities for 2016.

DATES: The meeting will be held on Monday, November 23, 2015, from 1 p.m. to 4 p.m. For agenda details, see SUPPLEMENTARY INFORMATION.

ADDRESSES: The meeting will be held via webinar. Webinar connection details will be available at: http://www.mafmc.org.

Council address: Mid-Atlantic Fishery Management Council, 800 N. State Street, Suite 201, Dover, DE 19901; telephone: (302) 674-2331 or on their Web site at www.mafmc.org.

FOR FURTHER INFORMATION CONTACT: Christopher M. Moore, Ph.D., Executive Director, Mid-Atlantic Fishery Management Council, telephone: (302) 526-5255.

SUPPLEMENTARY INFORMATION: The Council's River Herring and Shad Committee will meet Monday, November 23, 2015 at 1 p.m. to review recent developments in RH/S conservation and consider potential RH/S activities for 2016. Specific topics may include, but would not be limited to: The NMFS River Herring Technical Expert Working Group (TEWG), voluntary RH/S bycatch reduction programs, RH/S catch data, lawsuits, river herring genetics studies, and studies on environmental drivers of river herring distribution. The Committee will also consider what 2016 actions may be appropriate to recommend to the Council, including the planned revisit of the RH/S Stock in the Fishery question, as well as whether new information suggests a revisit of potential time/area hotspot closures may be appropriate. Contact Jason Didden at (302) 526-5254 if you have questions about using a webinar to participate in a meeting.

Special Accommodations

The meeting is physically accessible to people with disabilities. Requests for sign language interpretation or other auxiliary aid should be directed to M. Jan Saunders, (302) 526-5251, at least 5 days prior to the meeting date.

Dated: November 3, 2015.
Tracey L. Thompson,
Acting Deputy Director, Office of Sustainable Fisheries, National Marine Fisheries Service.

[FR Doc. 2015-28332 Filed 11-5-15; 8:45 am]

BILLING CODE 3510-22-P